ENVIRONMENTAL PROTECTION AGENCY

[EPA-HQ-OPA-2010-0987, FRL-9426-4]

Agency Information Collection Activities; Submission to OMB for Review and Approval; Comment Request; Implementation of the Oil Pollution Act Facility Response Plan Requirements (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 29, 2011.

ADDRESSES: Submit your comments, referencing Docket ID No. EPA-HQ-OPA-2010-0987, to (1) EPA, either online using http://www.regulations.gov (our preferred method), or by e-mail to rcra-docket@epa.gov, or by mail to: EPA Docket Center, Environmental Protection Agency, Mail Code 28221T, 1200 Pennsylvania Avenue, NW., Washington, DC 20460; and (2) OMB, by mail to: Office of Information and Regulatory Affairs, Office of Management and Budget (OMB), Attention: Desk Officer for EPA, 725 17th Street, NW., Washington, DC 20503.

FOR FURTHER INFORMATION CONTACT: J. Troy Swackhammer, Office of Emergency Management, Mail Code 5104A, Environmental Protection Agency, 1200 Pennsylvania Ave., NW., Washington, DC 20460; telephone number: (202) 564-1966; fax number: (202) 564-2625; e-mail address: swackhammer.j-troy@epa.gov.

SUPPLEMENTARY INFORMATION: EPA has submitted the following ICR to OMB for review and approval according to the procedures prescribed in 5 CFR 1320.12. On February 3, 2011 (76 FR 6130), EPA sought comments on this ICR pursuant to 5 CFR 1320.8(d). EPA received no comments. Any additional comments on this ICR should be submitted to EPA and OMB within 30 days of this notice.

EPA has established a public docket for this ICR under Docket ID No EPA-HQ-OPA-2010-0987, which is available for online viewing at www.regulations.gov, or in person viewing at the Resource Conservation and Recovery Act (RCRA) Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the RCRA Docket is (202) 566-0270.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Implementation of the Oil Pollution Act Facility Response Plan Requirements (Renewal).

ICR numbers: EPA ICR No. 1630.10, OMB Control No. 2050-0135.

ICR Status: This ICR is scheduled to expire on June 30, 2011. Under OMB regulations, the Agency may continue to conduct or sponsor the collection of information while this submission is pending at OMB. An Agency may not conduct or sponsor, and a person is not required to respond to, a collection of information, unless it displays a currently valid OMB control number. The OMB control numbers for EPA's regulations in Title 40 of the CFR, after appearing in the Federal Register when approved, are listed in 40 CFR Part 9, are displayed either by publication in the Federal Register or by other appropriate means, such as on the related collection instrument or form, if applicable. The display of OMB control numbers in certain EPA regulations is consolidated in 40 CFR Part 9.

Abstract: Under section 311(j)(5) of the Clean Water Act, as amended by the Oil Pollution Act of 1990 and in regulation codified at 40 CFR 112.20 and 112.21, EPA requires that owners or operators of facilities storing oil create and maintain updated Facility Response Plans (FRP) in order to identify the necessary resources to respond to an oil spill in a timely manner. If implemented effectively, the FRP will reduce the impact and severity of oil spills and may prevent spills through the identification of risks at the facility. Although the owner or operator is the primary data user, EPA also uses the data in certain situations to ensure that facilities comply with the regulation and to help allocate response resources. State and local governments may use the data, which are not generally available elsewhere and can greatly assist local emergency preparedness planning efforts. EPA reviews all submitted FRPs and must approve FRPs for those facilities whose discharges may cause significant and substantial harm to the environment in order to ensure that facilities believed to pose the highest risk have planned for adequate resources and procedures to respond to a spill.

Burden Statement: The respondent burden for this collection is estimated to average 1 hour per response for the Partner Registration Form, 34.5 hours per response for the Partner Annual Assessment Form, 3 hours per response for the Endorser Registration Form, and 5 hours per response for the Endorser Annual Assessment Form. This results in an estimated annual partner respondent burden of 51 hours for new partners, 48 hours for established partners, 7 hours for new endorsers, and 3 hours for established endorsers.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Businesses, not-for-profit institutions, and State, Local, or Tribal governments.

Estimated Number of Respondents: 22,865.

Frequency of Response: On occasion.

Estimated Total Annual Hour Burden: 463,419.

Estimated Total Annual Cost: $19,415,628, includes $31,736 annualized capital costs.

Changes in the Estimates: There is an increase of 30,792 hours from the currently approved burden. This is due to an observed increase in the number of facilities which must create and maintain an FRP.

Dated: June 23, 2011.
John Moses,
Director, Collection Strategies Division.

[FR Doc. 2011-16358 Filed 6-28-11; 8:45 am]

BILLING CODE 6560-50-P